DEPARTMENT OF COMMERCE

International Trade Administration

A-570-881

Notice of Correction to Notice of Extension of Time Limit for Final Results of Antidumping Duty Administrative Review: Certain Malleable Iron Pipe Fittings from the People's Republic of China

AGENCY: Import Administration, International Trade Administration, Department of Commerce.

EFFECTIVE DATE: April 28, 2006.

FOR FURTHER INFORMATION CONTACT: Sochieta Moth, AD/CVD Operations, Office 8, Import Administration, International Trade Administration, U.S. Department of Commerce, 14th Street and Constitution Avenue, NW, Washington, DC 20230; telephone; (202) 482-0168.

Correction:

On April 6, 2006, the Department of Commerce (“The Department”) published a notice of extension of time limit for the final results of the antidumping administrative review of the order on certain malleable iron pipe fittings from the People's Republic of China for the period December 2, 2003, through November 30, 2004. See Notice of Extension of Time Limit for Final Results of Antidumping Duty Administrative Review: Certain Malleable Iron Pipe Fittings From the People's Republic of China, 71 FR 17439 (April 6, 2006) (“Extension Notice”). Subsequent to the publication of the Extension Notice, we identified an inadvertent clerical error in the Federal Register.

The case number was incorrectly identified as A-570-831. The Extension Notice should be corrected to list the case number as A-570-881.

This correction is issued and published in accordance with section 777(i) of the Tariff Act of 1930, as amended.

Dated: April 21, 2006.
Joseph A. Spetrini,
Acting Assistant Secretary for Import Administration.

[FR Doc. E6-6436 Filed 4-27-06; 8:45 am]

BILLING CODE 3510-DS-S